DEPARTMENT OF HEALTH AND HUMAN SERVICES

National Institutes of Health

Center for Scientific Review; Amended Notice of Meeting

Notice is hereby given of a change in the meeting of the Center for Scientific Review Special Emphasis Panel, May 18, 2007, 8 a.m. to May 18, 2007, 5 p.m., Holiday Inn Select Bethesda, 8120 Wisconsin Avenue, Bethesda, MD 20814 which was published in the Federal Register on March 29, 2007, 72 FR 14824.

The meeting will be held at the DoubleTree Hotel, 8120 Wisconsin Avenue, Bethesda, MD 20814. The meeting date and time remain the same. The meeting is closed to the public.

Dated: April 2, 2007.
Anna Snouffer,
Deputy Director, Office of Federal Advisory Committee Policy.

[FR Doc. 07-1731 Filed 4-6-07; 8:45 am]

BILLING CODE 4140-01-M